DEPARTMENT OF TRANSPORTATION

Federal Aviation Administration

14 CFR Part 43

[Docket No. FAA-2000-8017, Amdt. No. 43-38A]

RIN 2120-AH11

Disposition of Life Limited Aircraft Parts; Technical Amendment

AGENCY: Federal Aviation Administration, DOT.

ACTION: Final rule; technical amendment.

SUMMARY: The FAA is correcting a final rule published in the Federal Register on January 15, 2002 (67 FR 2110). In that rule, the FAA amended its regulations to require that all persons who remove any life-limited aircraft part safely control that part, to deter the installation of that part after it has reached its life limit. The rule reduced the risk of life-limited parts being used beyond their life limits. The rule also required that type certificate and design approval holders of life-limited parts provide instructions on how to mark a part indicating its current status, when requested by persons removing such a part. This document corrects error in the codified text of that document.

DATES: This amendment becomes effective: November 12, 2014.

FOR FURTHER INFORMATION CONTACT: For technical questions concerning this action, contact Marcus Cunningham, Flight Standards Service, AFS-300, Federal Aviation Administration, 800 Independence Avenue SW., Washington, DC 20591; telephone: (202) 267-1694, facsimile (202) 267-1736, or email: marcus.cunningham@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document is correcting an error that is in 14 CFR 43.10(c)(6). This correction will not impose any additional restrictions on the persons affected by these regulations. Furthermore, any additional delay in making the regulations correct would be contrary to the public interest. Accordingly, the FAA finds that (i) public comment on these standards prior to promulgation is unnecessary, and (ii) good cause exists to make this rule effective in less than 30 days.

Background

On January 15, 2002, the FAA published a final rule entitled, “Safe Disposition of Life Limited Aircraft Parts” (67 FR 2110).

In that final rule, the FAA revised the regulations to require that all persons who remove any life-limited aircraft part to safely control that part to deter the installation of that part after it has reached its life limit. When published, a typographical error was created and the word “product” was inadvertently replaced with the word “produce” in 14 CFR 43.10(c)(6).

Technical Amendment

The technical amendment will replace the word “produce” with the word “product” in § 43.10(c)(6).

Because the changes in this technical amendment result in no substantive change, we find good cause exists under 5 U.S.C. 553(d)(3) to make the amendment effective in less than 30 days.

List of Subjects in 14 CFR Part 43

Aircraft, Aviation safety, Life-limited parts, Reporting and recordkeeping requirements.

The Amendment

In consideration of the foregoing, the Federal Aviation Administration amends chapter I of title 14, Code of Federal Regulations as follows:

PART 43—MAINTENANCE, PREVENTIVE MAINTENANCE, REBUILDING, AND ALTERATION

1. The authority citation for part 43 continues to read as follows:

Authority: 49 U.S.C. 106(g), 40113, 44701, 44703, 44705, 44707, 44711, 44713, 44717, 44725.

2. Revise § 43.10(c)(6) to read as follows:

§ 43.10 Disposition of life-limited aircraft parts.

* * * * *

(c) * * *

(6) Mutilation. The part may be mutilated to deter its installation in a type certificated product. The mutilation must render the part beyond repair and incapable of being reworked to appear to be airworthy.

* * * * *

Issued under authority of 49 U.S.C. 106(f), 44701(a), and 44707 in Washington, DC, on November 5, 2014.
Lirio Liu,
Director, Office of Rulemaking.

[FR Doc. 2014-26626 Filed 11-10-14; 8:45 am]

BILLING CODE 4910-13-P